DEPARTMENT OF ENERGY

Federal Energy Regulatory Commission

Combined Notice of Filings #1

Take notice that the Commission received the following electric corporate filings:

Docket Numbers: EC15-127-000.

Applicants: Calpine Greenleaf, Inc.

Description: Amendment to April 21, 2015 Application For Approval Under Section 203 of the Federal Power Act and Request for Expedited Action of Calpine Greenleaf, Inc.

Filed Date: 5/6/15.

Accession Number: 20150506-5161.

Comments Due: 5 p.m. ET 5/18/15.

Docket Numbers: EC15-134-000.

Applicants: American Electric Power Service Corporation, Indiana Michigan Power Company.

Description: Application Under Section 203 of the Federal Power Act to Acquire Transmission Facilities and Request for Expedited Consideration and Certain Waivers of American Electric Power Service Corporation.

Filed Date: 5/6/15.

Accession Number: 20150506-5198.

Comments Due: 5 p.m. ET 5/27/15.

Docket Numbers: EC15-135-000.

Applicants: Flat Water Wind Farm, LLC.

Description: Application for Authorization under Section 203 of the Federal Power Act and Request for Waivers, Confidential Treatment, and Expedited Consideration of Flat Water Wind Farm, LLC.

Filed Date: 5/6/15.

Accession Number: 20150506-5234.

Comments Due: 5 p.m. ET 5/27/15.

Take notice that the Commission received the following electric rate filings:

Docket Numbers: ER10-2977-005.

Applicants: Mesquite Power, LLC.

Description: Notice of Non-Material Change in Status of Mesquite Power, LLC.

Filed Date: 5/7/15.

Accession Number: 20150507-5055.

Comments Due: 5 p.m. ET 5/28/15.

Docket Numbers: ER15-861-002.

Applicants: California Independent System Operator Corporation.

Description: Compliance filing per 35: 2015-05-06 EIM Transition Compliance to be effective 3/16/2015.

Filed Date: 5/6/15.

Accession Number: 20150506-5191.

Comments Due: 5 p.m. ET 5/27/15.

Docket Numbers: ER15-1052-002.

Applicants: Transource Missouri, LLC.

Description: Compliance filing per 35: TMO Facilities Sharing Agreement Concurrence Compliance to be effective 4/8/2015.

Filed Date: 5/6/15.

Accession Number: 20150506-5197.

Comments Due: 5 p.m. ET 5/27/15.

Docket Numbers: ER15-1679-000.

Applicants: PJM Interconnection, L.L.C.

Description: Section 205(d) rate filing per 35.13(a)(2)(iii): Original Service Agreement No. 4137; Queue Y3-103 (ISA) to be effective 4/6/2015.

Filed Date: 5/6/15.

Accession Number: 20150506-5196.

Comments Due: 5 p.m. ET 5/27/15.

Docket Numbers: ER15-1680-000.

Applicants: Southwest Power Pool, Inc.

Description: Section 205(d) rate filing per 35.13(a)(2)(iii): 3024 KCP&L GMO and Transource Missouri Interconnection Agr to be effective 4/8/2015.

Filed Date: 5/7/15.

Accession Number: 20150507-5068.

Comments Due: 5 p.m. ET 5/28/15.

Docket Numbers: ER15-1681-000.

Applicants: Spokane Energy, LLC.

Description: Tariff Withdrawal per 35.15: Cancellation of MBR Tariff to be effective 5/8/2015.

Filed Date: 5/7/15.

Accession Number: 20150507-5126.

Comments Due: 5 p.m. ET 5/28/15.

Docket Numbers: ER15-1682-000.

Applicants: TransCanyon DCR, LLC.

Description: Baseline eTariff Filing per 35.1: TransCanyon Transmission Owner Tariff to be effective 7/6/2015.

Filed Date: 5/7/15.

Accession Number: 20150507-5150.

Comments Due: 5 p.m. ET 5/28/15.

Docket Numbers: ER15-1683-000.

Applicants: PacifiCorp.

Description: Tariff Withdrawal per 35.15: Termination of Lehi Highland Sub Trans Line Upgrade Construct Agmt to be effective 7/21/2015.

Filed Date: 5/7/15.

Accession Number: 20150507-5157.

Comments Due: 5 p.m. ET 5/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 7, 2015.
Nathaniel J. Davis, Sr.,
Deputy Secretary.

[FR Doc. 2015-11517 Filed 5-12-15; 8:45 am]

BILLING CODE 6717-01-P